DEPARTMENT OF COMMERCE

National Oceanic and Atmospheric Administration

[I.D. 041207E]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will convene a meeting of its Ecosystem Scientific and Statistical Committee (SSC) in St. Petersburg, FL.

DATES: The meeting will begin at 9 a.m. on Tuesday, May 8, 2007 and conclude by 3 p.m. on Thursday, May 10, 2007.

ADDRESSES: The meeting will be held at the Florida Fish & Wildlife Research Institute, 100 8th Avenue, SE, St. Petersburg, FL 33701.

Council address: Gulf of Mexico Fishery Management Council, 2203 North Lois Avenue, Suite 1100, Tampa, FL 33607.

FOR FURTHER INFORMATION CONTACT: Steven Atran, Population Dynamics Statistician, Gulf of Mexico Fishery Management Council; telephone: (813) 348-1630.

SUPPLEMENTARY INFORMATION: The Gulf of Mexico Fishery Management Council (Council) will convene its Ecosystem Scientific and Statistical Committee (SSC), along with other invited ecosystem modeling experts, in St. Petersburg, FL, to conduct a three day workshop to demonstrate the feasibility of using ecosystem modeling as a tool to address fishery management issues. While there are numerous fishery related issues that could potentially be addressed through an ecosystem modeling approach, the SSC identified three primary issues to be the focus of the workshop: (1) Red snapper-shrimp interactions; (2) multi-species (MPA) effects on snapper-grouper; and (3) Gulf of Mexico hypoxic area from drainage from the Mississippi River effects on demersal and pelagic ecosystems. Other issues identified by the Ecosystem SSC as that could also be selected for evaluation at the workshop, include: (4) the role menhaden as a forage base in the Gulf; (5) impacts of red tide on Gulf of Mexico ecosystem; and (6) impacts of artificial reefs on Gulf of Mexico ecosystem.

Utilizing a preliminary ecosystem model recently developed for the Gulf of Mexico, the workshop will address as many of the issues identified above as is practicable within the time and data constraints of the workshop. Additional issues may also be addressed if time and available data permit. The workshop participants will work with Council staff subsequent to the workshop to develop final reports to the Gulf Council, and a presentation of the results of the workshop will be given to the Gulf Council at one of the Council's regularly scheduled meetings.

Copies of the agenda and other related materials can be obtained by calling (813) 348-1630.

Although other non-emergency issues not on the agendas may come before the SSC for discussion, in accordance with the Magnuson-Stevens Fishery Conservation and Management Act (Magnuson-Stevens Act), those issues may not be the subject of formal action during these meetings. Actions of the SSC will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina Trezza at the Council (see ADDRESSES) at least 5 working days prior to the meeting.

Dated: April 16, 2007.
Tracey L. Thompson,
Acting Director, Office of Sustainable Fisheries, National Marine Fisheries Service.

[FR Doc. E7-7418 Filed 4-18-07; 8:45 am]

BILLING CODE 3510-22-S